FEDERAL MARITIME COMMISSION

Ocean Transportation Intermediary License Reissuances

The Commission gives notice that the following Ocean Transportation Intermediary licenses have been reissued pursuant to section 40901 of the Shipping Act of 1984 (46 U.S.C. 40101).

License No.: 015255N.

Name: Triways Shipping Lines, Inc.

Address: 11938 S. La Cienega Blvd., Hawthorne, CA 90250.

Date Reissued: July 18, 2012.

License No.: 022773N.

Name: WLI (USA) Inc.

Address: 175-01 Rockaway Blvd., Suite 228, Jamaica, NY 11434.

Date Reissued: July 15, 2012.

Vern W. Hill,
Director, Bureau of Certification and Licensing.

[FR Doc. 2012-20661 Filed 8-21-12; 8:45 am]

BILLING CODE 6730-01-P